DEPARTMENT OF THE INTERIOR

Bureau of Land Management

[MT-021-01-1430-EU]

Notice of Realty Action for Noncompetitive Sale of Public Lands in Fallon County, Montana, MTM-89841

AGENCY: Bureau of Land Management, Miles City Field Office, Interior.

ACTION: Notice.

SUMMARY: The following land has been found suitable for direct sale under Section 203 of the Federal Land Policy and Management Act of 1976 (90 Stat. 2750, 43 U.S.C. 1713), at no less than the estimated fair market value of $64,000. The lands are to be used for the expansion of the existing Class II regional landfill operated by Fallon County. The land will not be offered for sale until at least 60 days after the date of this notice.

Principal Montana Meridian

T6N, R60E, Sec. 14: all

Containing 640 acres.

The land described is hereby segregated from appropriation under the public land laws, including the mining laws, pending disposition of this action or 270 days from the date of publication of this notice, whichever occurs first.

This land is being offered by direct sale to Fallon County under the following terms and conditions:

1. All minerals will be reserved to the United States, together with the right to prospect for, mine and remove the minerals. A more detailed description of this reservation, which will be incorporated in the patent document, is available for review at this office.

2. A right-of-way is reserved for ditches and canals constructed by the authority of the United States under the authority of the Act of August 30, 1890 (26 Stat. 291: 43 U.S.C. 945).

3. The patent will be subject to existing rights-of-way.

4. The patent will be subject to the terms and conditions of grazing lease, number 2625, issued to Truman Gary Rusley, until April 10, 2002.

DATES: Comments must be submitted on or before May 29, 2001.

ADDRESSES: All comments concerning this Notice of Realty Action should be addressed to: Field Manager, Bureau of Land Management, 111 Garryowen Road, Miles City, Montana 59301.

FOR FURTHER INFORMATION CONTACT: Brian Lynnes, Bureau of Land Management, 111 Garryowen Road, Miles City, Montana 59301, or by calling (406) 233-2822.

SUPPLEMENTARY INFORMATION: Detailed information concerning these reservations as well as specific conditions of the sale are available for review at the above address. In the absence of timely objections, this proposal shall become the final determination of the Department of the Interior.

Dated: April 3, 2001.
Aden L. Seidlitz,
Acting Field Manager.

[FR Doc. 01-8970 Filed 4-10-01; 8:45 am]

BILLING CODE 4310-$$-P